DEPARTMENT OF TRANSPORTATION

Federal Aviation Administration

14 CFR Part 39

[Docket No. FAA-2009-1180; Directorate Identifier 2009-CE-060-AD]

RIN 2120-AA64

Airworthiness Directives; Hawker Beechcraft Corporation (Type Certificate Previously Held by Raytheon Aircraft Company) Models B300 and B300C Airplanes

AGENCY: Federal Aviation Administration (FAA), Department of Transportation (DOT).

ACTION: Notice of proposed rulemaking (NPRM).

SUMMARY: We propose to adopt a new airworthiness directive (AD) for certain Hawker Beechcraft Corporation (type certificate previously held by Raytheon Aircraft Company) Models B300 and B300C airplanes. This proposed AD would require you to inspect the terminal board on the circuit card rack assembly to determine if the correct bus bar is installed. This proposed AD would also require you to replace the bus bar if necessary and inspect the left and right pitot heat annunciators for proper operation. This proposed AD results from reports of the left and right pitot heat annunciators not illuminating for an inoperative pitot heat condition. We are proposing this AD to detect and correct installation of an incorrect bus bar, which could result in failure of the pitot heat annunciators to illuminate. This failure could lead to the pilot being unaware that moisture has frozen on the pitot tube(s) and cause erroneous flight instrument indication.

DATES: We must receive comments on this proposed AD by February 1, 2010.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Hawker Beechcraft Corporation, Attn: Airline Technical Support, P.O. Box 85, Wichita, Kansas 67201; telephone: (800) 429-5372; fax: (316) 676-8745; Internet: http://www.hawkerbeechcraft.com.

FOR FURTHER INFORMATION CONTACT: Kevin Schwemmer, Aerospace Engineer, FAA, Wichita Aircraft Certification Office (ACO), 1801 Airport Road, Room 100, Wichita, Kansas 67209, telephone: (316) 946-4174, fax: (316) 946-4107.

SUPPLEMENTARY INFORMATION:

Comments Invited

We invite you to send any written relevant data, views, or arguments regarding this proposed AD. Send your comments to an address listed under the ADDRESSES section. Include the docket number, “FAA-2009-1180; Directorate Identifier 2009-CE-060-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We have received reports indicating that there was a discrepancy between the installation drawing and the wiring diagram for installing the bus bar for the pitot heat annunciators on Hawker Beechcraft Corporation Models B300 and B300C airplanes.

Installing the incorrect bus bar creates a condition where the left and right pitot heat annunciators may not illuminate for an inoperative pitot heat condition.

This condition, if not corrected, could result in failure of the pitot heat annunciators to illuminate. This failure could lead to moisture freezing on the pitot tube(s) and cause erroneous flight instrument indication.

Relevant Service Information

We have reviewed Hawker Beechcraft Mandatory Service Bulletin SB 31-3948, Issued: April 2009.

The service information describes procedures for:

• Inspecting the left and right pitot heat annunciators for proper operation;

• Inspecting the terminal board on the circuit card rack assembly to determine if the correct bus bar is installed; and

• Replacing the bus bar if necessary.

FAA's Determination and Requirements of the Proposed AD

We are proposing this AD because we evaluated all information and determined the unsafe condition described previously is likely to exist or develop on other products of the same type design. This proposed AD would require inspecting the terminal board on the circuit card rack assembly to determine if the correct bus bar is installed. This proposed AD would also require replacing the bus bar if necessary and inspecting the left and right pitot heat annunciators for proper operation.

Costs of Compliance

We estimate that this proposed AD would affect 131 airplanes in the U.S. registry.

We estimate the following costs to do the proposed operational check:

Labor cost | Parts cost | Total cost per airplane | Total cost on U.S. operators
1 work-hour × $80 per hour = $80 | Not applicable | $80 | $10,480

We estimate the following costs to do any necessary placard fabrication and installation that would be required based on the results of the proposed operational check. We have no way of determining the number of airplanes that may need the placard:

Labor cost | Parts cost | Total cost per airplane
.5 work-hour × $80 per hour = $40 | Not applicable | $40

We estimate the following costs to do the proposed inspection:

Labor cost | Parts cost | Total cost per airplane | Total cost on U.S. operators
1 work-hour × $80 per hour = $80 | Not applicable | $80 | $10,480

We estimate the following costs to do any necessary replacements that would be required based on the results of the proposed inspection. We have no way of determining the number of airplanes that may need replacement:

Labor cost | Parts cost | Total cost per airplane
3 work-hours × $80 per hour = $240 | $50 | $290

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Hawker Beechcraft Corporation (Type Certificate previously held by Raytheon Aircraft Company): Docket No. FAA-2009-1180; Directorate Identifier 2009-CE-060-AD.

Comments Due Date

(a) We must receive comments on this airworthiness directive (AD) action by February 1, 2010.

Affected ADs

(b) None.

Applicability

(c) This AD applies to the following airplane models and serial numbers that are certificated in any category:

Models | Serial Nos.
B300 | FL-381, FL-383 through FL-530, FL-532, FL-534 through FL-596, FL-598, and FL-600.
B300C | FM-12 through FM-25.

Subject

(d) Air Transport Association of America (ATA) Code 31: Instruments.

Unsafe Condition

(e) This AD results from reports of the left and right pitot heat annunciators not illuminating for an inoperative pitot heat condition. We are issuing this AD to detect and correct the installation of an incorrect bus bar, which could result in failure of the pitot heat annunciators to illuminate. This failure could lead to moisture freezing on the pitot tube(s) and cause erroneous flight instrument indication.

Compliance

(f) To address this problem, you must do the following, unless already done:

Actions | Compliance | Procedures
(1) Do an operational check of the left and right pitot heat annunciators for illumination | Within the next 15 hours time-in-service (TIS) after the effective date of this AD or within the next 30 days after the effective date of this AD, whichever occurs first. If you may | Follow Hawker Beechcraft Mandatory Service Bulletin SB 31-3948, Issued: April 2009.
(2) If the left and/or right pitot heat annunciators do not illuminate, install a placard on the instrument panel within the pilot's clear view specifying the pitot heat annunciator(s) as inoperative | Before further flight after the operational check required in paragraph (f)(1) of this AD | Follow Hawker Beechcraft Mandatory Service Bulletin SB 31-3948, Issued: April 2009.
(3) Inspect the terminal board on the circuit card rack assembly to determine if a five-hole bus bar is installed | Within the next 50 hours TIS after the effective date of this AD or within the next 3 months after the effective date of this AD, whichever occurs first | Follow Hawker Beechcraft Mandatory Service Bulletin SB 31-3948, Issued: April 2009.
(4) If a five-hole bus bar is found installed during the inspection required in paragraph (f)(3) of this AD, perform an operational check. If the operational check detects anomalies, contact the manufacturer specified in paragraph (i) of this AD to obtain an FAA-approved repair scheme and incorporate the repair scheme | Before further flight after the inspection required in paragraph (f)(3) of this AD | Follow Hawker Beechcraft Mandatory Service Bulletin SB 31-3948, Issued: April 2009.
(5) If a four-hole bus bar is found installed during the inspection required in paragraph (f)(3) of this AD, replace it with a five-hole bus bar and perform an operational check. If the operational check detects anomalies, contact the manufacturer specified in paragraph (i) of this AD to obtain an FAA-approved repair scheme and incorporate the repair scheme | Before further flight after the inspection required in paragraph (f)(3) this AD | Follow Hawker Beechcraft Mandatory Service Bulletin SB 31-3948, Issued: April 2009.
(6) If proper operation of the left and right pitot heat annunciators are verified in paragraphs (f)(4) and (f)(5) of this AD, remove the placard that was installed in paragraph (f)(2) of this AD | Before further flight after doing the operational check required in paragraphs (f)(4) and (f)(5) of this AD | Follow Hawker Beechcraft Mandatory Service Bulletin SB 31-3948, Issued: April 2009.

Note: The operational check required in this AD is different from the pilot's pre-flight check. An FAA-approved licensed mechanic authorized to do maintenance is required to do the operational check.

(g) The inspection action of paragraph (f)(3) of this AD and the follow-on actions of paragraphs (f)(4) and (f)(5) of this AD may be done instead of the operational check and the placard requirements of paragraphs (f)(1) and (f)(2) of this AD provided the inspection is done within the next 15 hours TIS after the effective date of this AD.

Alternative Methods of Compliance (AMOCs)

(h) The Manager, Wichita Aircraft Certification Office (ACO), FAA, has the authority to approve AMOCs for this AD, if requested using the procedures found in 14 CFR 39.19. Send information to ATTN: Kevin Schwemmer, Aerospace Engineer, ACE-118W, Wichita ACO, 1801 Airport Road, Room 100, Wichita, Kansas 67209, telephone: (316) 946-4174, fax: (316) 946-4107. Before using any approved AMOC on any airplane to which the AMOC applies, notify your appropriate principal inspector (PI) in the FAA Flight Standards District Office (FSDO), or lacking a PI, your local FSDO.

Related Information

(i) To get copies of the service information referenced in this AD, contact Hawker Beechcraft, Attn: Airline Technical Support, P.O. Box 85, Wichita, Kansas 67201; telephone: (800) 429-5372; fax: (316) 676-8745; Internet: http://www.hawkerbeechcraft.com. To view the AD docket, go to U.S. Department of Transportation, Docket Operations, M-30, West Building Ground Floor, Room W12-140, 1200 New Jersey Avenue, SE., Washington, DC 20590, or on the Internet at http://www.regulations.gov.

Issued in Kansas City, Missouri, on December 8, 2009.
Margaret Kline,
Acting Manager, Small Airplane Directorate, Aircraft Certification Service.

[FR Doc. E9-29975 Filed 12-16-09; 8:45 am]

BILLING CODE 4910-13-P